ENVIRONMENTAL PROTECTION AGENCY

[FRL-6957-3]

Agency Information Collection Activities: Proposed Collection; Comment Request; Compliance Assistance Surveys for the Marina, Metal Finishing, Construction Site, and Salvage Yard Sectors

AGENCY: Environmental Protection Agency (EPA).

ACTION: Notice.

SUMMARY: In compliance with the Paperwork Reduction Act (44 U.S.C. 3501 et seq.), this notice announces that EPA is planning to submit the following proposed Information Collection Request (ICR) to the Office of Management and Budget (OMB): Compliance Assistance Surveys for the Marina, Metal Finishing, Construction Site, and Salvage Yard Sectors, [EPA ICR Number 2021.01]. This information request has no prior OMB Control Number. Before submitting the ICR to OMB for review and approval, EPA is soliciting comments on specific aspects of the proposed information collection as described below.

DATES: Comments must be submitted on or before May 22, 2001.

ADDRESSES: To request a copy of the information collection request, explanatory information and related forms, contact Ms. Lynn Vendinello, at (202) 564-7066, and refer to EPA ICR No. 2021.01. Comments may be mailed to Ms. Lynn Vendinello, U.S. EPA (2222A), 401 M St. SW, Washington, D.C. 20460. Comments may also be submitted electronically to vendinello.lynn@epa.gov.

FOR FURTHER INFORMATION CONTACT: Ms. Lynn Vendinello at (202) 564-7066, facsimile (202) 564-0031, vendinello.lynn@epa.gov.

SUPPLEMENTARY INFORMATION: Affected entities: Entities potentially affected by this action are the following:

• Marinas located in EPA Region I states: Connecticut, Maine, Massachusetts, New Hampshire, Rhode Island, and Vermont;

• Facilities in the Metal Finishing Sector (covered by SIC 347) located in the vicinity of Detroit, MI and Philadelphia, PA.;

• Facilities in the Construction Site Sector (covered by SIC 15-17) located nationally; and

• Facilities in the Salvage Yard Sector (covered by SIC 5015, 5093) located nationally.

Title: Compliance Assistance Surveys for the Marina, Metal Finishing, Construction Site, and Salvage Yard Sectors; EPA ICR No. 2021.01

Abstract: EPA Region I and the Office of Compliance (OC) within the Office of Enforcement and Compliance Assurance (OECA) are planning to conduct a performance baseline survey and follow-up survey for the Marina sector, and a performance snapshot for the Metal Finishing sector. In addition, OC is interested in conducting a baseline performance survey and compliance assistance needs assessment for either the Construction Site or Salvage Yard sectors and is seeking comment on which of the two sectors is in need of compliance assistance. There are three main purposes for these compliance assistance surveys:

• To collect actual cost and hour burden estimates per respondent and response rates for information collected through mailed survey instruments versus a site visit survey approach. Site visit surveys are believed to require more respondent time but should result in an excellent response rate and more accurate data when compared to a mailed survey. OC would like to test this hypothesis by conducting parallel mailed and site visit surveys to two or more industry sectors.

• To determine a baseline level of regulatory awareness and compliance from which to measure the success of the Agency's compliance outreach efforts for reporting under the Government Performance and Results Act (GPRA). For key sectors for which EPA is planning to initiate compliance assistance, a baseline level of compliance and regulatory awareness is needed from which to measure future progress.

• To identify those topical areas of poor regulatory compliance or regulatory confusion for each sector studied so that compliance outreach resources can be targeted to those issues.

EPA Region I is planning a Clean Marinas Initiative. The activities planned under this initiative are designed to provide marinas with basic regulatory information and to encourage “beyond compliance” behaviors through the dissemination of a wide variety of tools. EPA Region I would like to conduct a statistically valid voluntary mail survey and site-visit survey of a sample of the approximate 1,200 marinas in the Region. These surveys will be used to (1) determine what compliance outreach tools are useful and (2) get a better sense of the compliance challenges faced by this sector. The results of the survey will be used to establish a performance baseline at the start of this initiative. A follow-up survey will then be conducted to determine progress against the baseline.

EPA's Office of Enforcement and Compliance Assurance has adopted a sector approach for many of its compliance assistance activities. The metal finishing industry is an example of a sector for which EPA has focused many of its compliance assistance activities. There is considerable debate as to the extent of environmental releases, environmental impacts associated with these releases, compliance rates, the need for additional compliance assistance, and the effectiveness of compliance assistance tools developed for this industry. OECA would like to conduct a statistically valid voluntary mail survey and site-visit survey of a sample of metal finishing facilities in two geographical areas to determine a performance snapshot of this sector which reflects current facility performance with respect to key federal regulations. The surveys will be conducted as a voluntary blind sample (i.e., the facilities' identity will be unknown to the Agency and the facilities will participate voluntarily). The results of the survey will provide OECA with information on compliance assistance topics applicable to this sector and information from which to measure the success of OECA's compliance assistance programs for Government Performance and Results Act (GPRA) reporting purposes.

OECA is evaluating the need for compliance assistance for two additional sectors: construction sites and salvage yards. OECA identified these sectors based on anecdotal information from states and EPA regions; however, sufficient data are not available in EPA's databases to evaluate the current state of compliance in these sectors. Therefore, OECA is interested in determining:

• The level of regulatory awareness in each sector;

• Areas of noncompliance and root causes of noncompliance; and

• The need for compliance assistance tools for each sector and the tools that would be most accessible and useful.

OECA is soliciting comment whether to conduct a statistically valid voluntary mail survey and site-visit survey of a sample of facilities in one of these sectors using the same approach as described above for the metal finishing and marina sectors. Since the population for construction sites and salvage yards is not known, OECA will conduct double stage cluster sampling.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology (e.g., permitting electronic submission of responses).

Burden Statement: The baseline surveys being requested are one time information collections. The public reporting burden for this collection of information is estimated to average:

• 1 hour per respondent for the mailed surveys in each sector; and

• 4 hours per respondent for the site visit surveys in each sector.

Burden means the total time, effort, or financial resources expended by persons to generate, maintain, retain, and disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: 400 Marinas in EPA Region I (200 random marinas will be sampled for the mailed survey, 100 random facilities for the site-visit survey, 100 random facilities for the follow-up survey); 300 facilities in the metal finishing sector located in the vicinity of Detroit, MI and Philadelphia, PA (200 random facilities will be sampled for the mailed survey, 100 random facilities for the site-visit survey); 300 facilities in the construction site or salvage yard sector located nationally (200 random facilities will be sampled for the mailed survey, 100 random facilities for the site-visit survey).

Estimated Number of Respondents: 300 Marinas in EPA Region I (assuming a 50% response rate to the mailed survey, a 100% response rate for the site-visit survey and a 100% response rate for the follow-up survey,where we are assuming the more conservative approach that the follow-ups will be on-site visits); 200 facilities in the metal finishing sector (assuming a 50% response rate to the mailed survey and a 100% response rate for the site-visit survey); 200 facilities in the construction site or salvage yard sector (assuming a 50% response rate to the mailed survey and a 100% response rate for the site-visit survey).

Frequency of Response: Once (although we will be surveying the same sector more than once, the random sample of facilities surveyed will be different. There is a slight chance that a facility could be in both samples but we assume that that isn't likely to occur.)

Estimated Total Annual Hour Burden: 1,900 hours.

Estimated Total Annualized Cost Burden: $131,670.

Dated: March 14, 2001.
Michael M. Stahl,
Office Director, Office of Compliance.

[FR Doc. 01-7282 Filed 3-22-01; 8:45 am]

BILLING CODE 6560-50-U